DEPARTMENT OF THE INTERIOR

National Park Service

[NPS-NER-LOWE-31780; PX.XLOWELAND.00.1]

Minor Boundary Revision at Lowell National Historical Park

AGENCY: National Park Service, Interior.

ACTION: Notification of boundary revision.

SUMMARY: The boundary of Lowell National Historical Park is modified to include two parcels of land with a total of approximately 1.66 acres located in the City of Lowell, Middlesex County, Massachusetts, adjoining the Park. The United States of America acquired an easement over these properties from the City of Lowell in exchange for federal real property interests conveyed to the City.

DATES: The effective date of this boundary revision is November 24, 2021.

ADDRESSES: The map depicting this boundary revision is available for inspection at the following locations: National Park Service, Interior Region 1, Land Resources Program Center, 115 John Street, 5th Floor, Lowell, MA 01852, and National Park Service, Department of the Interior, 1849 C Street NW, Washington, DC 20240.

FOR FURTHER INFORMATION CONTACT: Realty Officer Jennifer Cherry, National Park Service, Interior Region 1, Land Resources Program Center, 115 John Street, 5th Floor, Lowell, MA 01852, telephone (978) 970-5260.

SUPPLEMENTARY INFORMATION: Notice is hereby given that, pursuant to 16 U.S.C. 410cc-11(b), the boundary of Lowell National Historical Park is modified to include two adjoining tracts. The first property is Parcel ID No. 0160-1915-0350.4-0000 (350.4 Dutton Street) with 1.48 acres of land. The second property is a 13-foot-wide strip of land running approximately 607 feet along the north side of Father Morissette Boulevard between Aiken Street and James Street with approximately 0.18 acre of land. The boundary revision is depicted on Map No. 475/142,414A, dated November 2019.

16 U.S.C. 410cc-11(b) states that minor revisions of the Lowell National Historical Park boundary may be made by publication of a boundary description in the Federal Register subject to the consent of the city manager and city council of Lowell and after timely notice in writing is given to the Congress. The city manager and city council of Lowell consented to this boundary revision and Congress was notified.

Gay Vietzke,
Regional Director, Interior Region 1.

[FR Doc. 2021-25644 Filed 11-23-21; 8:45 am]

BILLING CODE 4312-52-P